DEPARTMENT OF THE INTERIOR

National Park Service

Native American Graves Protection and Repatriation Review Committee: Meeting

AGENCY: National Park Service, Interior.

ACTION: Notice.

Notice is hereby given in accordance with the Federal Advisory Committee Act, 5 U.S.C. Appendix (1988), of a meeting of the Native American Graves Protection and Repatriation Review Committee.

General Information: The Native American Graves Protection and Repatriation Review Committee was established by Public Law 101-601 to monitor, review, and assist in implementation of the inventory and identification process and repatriation activities required under the Native American Graves Protection and Repatriation Act (NAGPRA).

Persons wishing further information concerning review committee meetings may contact Dr. Robert Stearns, Manager, National NAGPRA Program, 1849 C Street NW-350 NC, Washington, DC 20240, telephone (202) 343-5266, facsimile (202) 343-5260, e-mail robert_stearns@nps.gov. Transcripts of review committee meetings are available for public inspection approximately eight weeks after each meeting at the office of the Manager, National NAGPRA Program, Native American Graves Protection and Repatriation Review Committee, 800 North Capitol Street NW, Suite 350, Washington, DC 20001. The protocol for review committee meetings is posted on the National NAGPRA Website (www.cr.nps.gov/nagpra; click “Review Committee,” then click “Procedures”).

Indian tribes, Alaska Native villages and corporations, and Native Hawaiian organizations that are considering visits to museums or Federal agencies in review committee meeting locations for the purpose of transfers of repatriated human remains and cultural items may wish to schedule transfers to coincide with review committee meetings. Note that repatriation transfers may be supported by “repatriation awards” administered under the NAGPRA grants program. Information about NAGPRA grants is posted on the National NAGPRA Website (www.cr.nps.gov/nagpra; click “NAGPRA Grants”).

Seattle, WA, meeting, November 8-10, 2002: At the invitation of the Native American Law Center, American Indian Studies Center, Department of Anthropology, and Museology Program at the University of Washington, and the Archaeology Department at the Burke Museum, the review committee will meet on November 8, 9 and 10, 2002, in the Walker-Ames Room in Kane Hall, University of Washington, Seattle, WA. Information about Kane Hall can be found online at http://www.washington.edu/classroom/kanehall.

The agenda for the meeting will include Federal agency compliance; implementation of the statute in the northwestern United States; and regulations on Section 10.7, disposition of unclaimed human remains, funerary objects, sacred objects or objects of cultural patrimony, Section 10. 11, disposition of culturally unidentifiable human remains, and Section 10.13, future applicability.

Meeting sessions will begin at 8:30 a.m. each day, and will end no later than 5:00 p.m. on November 8 and 9, and no later than 2:00 p.m. on November 10. The meeting is open to the public. Meeting space is limited and persons will be accommodated on a first-come, first-served basis. Persons wishing to make a public presentation to the review committee should submit a request to do so by October 9, 2002, and include a written abstract of your presentation and your contact information. Persons may also submit written statements for consideration by the review committee by October 19, 2002. Requests and statements should be addressed to the review committee in care of the “Designated Federal Official, NAGPRA Review Committee”, National NAGPRA program, and should be sent (1) by mail to the Manager, National NAGPRA Program, National Park Service, 1849 C Street NW-350NC, Washington, DC 20240; or (2) by commercial delivery address to the Manager, National NAGPRA Program, National Park Service, 800 North Capitol Street NW, Suite 350, Washington, DC 20001.

Increased security in the Washington, DC, area may cause delays in the delivery of U.S. Mail to Government offices. In addition to mail or commercial delivery, a copy of the mailed request may also be faxed to the review committee in care of the Manager “Designated Federal Official, NAGPRA Review Committee”, National NAGPRA Program, at (202) 343-5260.

No special lodging arrangements have been made for this meeting. Accommodations are available in the Seattle community.

Minnesota meeting, spring 2003: The review committee will meet in the spring 2003, tentatively May 9-11, 2003, in Minneapolis, MN. A notice including final meeting dates, the meeting agenda, and other meeting details will be published in the Federal Register at least 90 days prior to the Minneapolis, MN, meeting.

Dated: June 28, 2002.
Robert Stearns,
Manager, National NAGPRA Program.

[FR Doc. 02-18050 Filed 7-17-02; 8:45 am]

BILLING CODE 4310-70-S